INTERNATIONAL TRADE COMMISSION

[Investigation Nos. 701-TA-474 and 731-TA-1176 (Final) (Remand)]

Drill Pipe and Drill Collars From China

Determination

The United States International Trade Commission (Commission) hereby publishes notice of its final determinations pursuant to the remand ordered by the U.S. Court of International Trade (Court) in the antidumping and countervailing duty investigations of drill pipe and drill collars from China. On the basis of the Court's remand instructions and the parties' comments, and the record ¹ developed in the subject investigations, the Commission determined, pursuant to sections 705(b) and 735(b) of the Tariff Act of 1930 (19 U.S.C. 1671d(b) and 1673d(b)), that an industry in the United States is neither materially injured nor threatened with material injury by reason of subject imports of drill pipe and drill collars from China, provided for in subheadings 7304.22, 7304.23, and 8431.43 of the Harmonized Tariff Schedule of the United States, that are subsidized and sold in the United States at less than fair value.2 3

¹ The record is defined in sec. 207.2(f) of the Commission's Rules of Practice and Procedure (19 CFR 207.2(f)).

² Commissioners Irving A. Williamson and Dean A. Pinkert dissented, finding that an industry in the United States is threatened with material injury by reason of the subject imports.

³ Commissioner F. Scott Kieff did not participate in the remand proceedings.

Background

In February 2011, by a vote of 3 to 3, the Commission issued affirmative threat of injury determinations in the antidumping and countervailing duty determinations of drill pipe and drill collars from China.⁴ Chinese Respondent Downhole Pipe & Equipment, LP appealed the Commission's determinations to the Court. On August 19, 2013, the Court remanded the Commission's affirmative threat determinations. Downhole Pipe & Equipment, LP v. United States, Slip Op. 13-108 (Aug. 19, 2013). On December 11, 2013, by a vote of 3 to 2, the Commission issued negative remand determinations in the above-captioned proceedings. On November 10, 2014, the Court issued an opinion affirming the Commission's negative determinations on remand. Downhole Pipe & Equipment, LP v. United States, Slip Op. 14-130 (Nov. 10, 2014).

⁴ Commissioners Williamson, Pinkert and Charlotte R. Lane voted in the affirmative. Chairman Deanna Tanner Okun and Commissioners Pearson and Shara L. Aranoff dissented.

Issued: December 12, 2014.
By order of the Commission.
Lisa R. Barton,
Secretary to the Commission.

[FR Doc. 2014-29574 Filed 12-17-14; 8:45 am]

BILLING CODE 7020-02-P